FEDERAL MARITIME COMMISSION

Ocean Transportation Intermediary License Reissuance

Notice is hereby given that the following Ocean Transportation Intermediary licenses have been reissued by the Federal Maritime Commission pursuant to section 19 of the Shipping Act of 1984 (46 U.S.C. chapter 409) and the regulations of the Commission pertaining to the licensing of Ocean Transportation Intermediaries, 46 CFR part 515.

License No. | Name/address | Date reissued
020208F | Ghanem Forwarding, LLC, 3327 Hollins Ferry Road, Halethorpe, MD 21227 | October 20, 2010.
020253NF | Concord International Transport, Inc., 10100 NW. 116th Way, Suite 14, Medley, FL 33178 | October 22, 2010.
020281NF | Freightsolutions LLC dba Freight Solutions dba Santa Cruz Ocean Line, 1775 NW. 70th Avenue, Suite 10, Miami, FL 33126 | September 5, 2010.
021600N | LTH Logistics, Inc. dba LTH Express, 837 East Sandhill Avenue Carson, CA 90746 | October 30, 2010.
021890F | Empire Global Logistics, LLC, 160-51 Rockaway Blvd., Suite 206, Jamaica, NY 11434 | October 31, 2010.

Sandra L. Kusumoto,
Director, Bureau of Certification and Licensing.

[FR Doc. 2010-30877 Filed 12-7-10; 8:45 am]

BILLING CODE 6730-01-P